DEPARTMENT OF TRANSPORTATION

Federal Aviation Administration

[Summary Notice No. 2017-0423]

Petition for Exemption; Summary of Petition Received; Lauren Pelicano: Child Restraint System

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before August 10, 2017.

ADDRESSES: Send comments identified by docket number FAA-2017-0423 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC 20590-0001, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: Brittany Newton (202) 267-6691, Office of Rulemaking, Federal Aviation Administration, 800 Independence Avenue SW., Washington, DC 20591.

This notice is published pursuant to 14 CFR 11.85.

Issued in Washington, DC, on July 7, 2017.
Dale Bouffiou,
Deputy Director, Office of Rulemaking.

Petition for Exemption

Docket No.: FAA-2017-0423.

Petitioner: Lauren Pelicano: Child Restraint System.

Section(s) of 14 CFR Affected: 121.311.

Description of Relief Sought: Petitioner seeks an exemption from § 121.311 to the extent necessary to allow her daughter to use the Convaid Carrot 3 booster seat on U.S.-registered aircraft in commercial air carrier operations under part 121. The petitioner states that this seat supports her daughter's trunk and easily accommodates her height and weight. The manufacturer (Convaid) has labeled the restraint as being certified for use in motor vehicles and aircraft. However, the manufacturer also notes in the user manual that the Convaid Carrot 3 is not “FAA certified” and that the Convaid Carrot 3 must always be secured with a lap shoulder (3-point) safety belt to secure the child restraint and the child. The manufacturer further notes that not using a lap shoulder (3-point) safety belt could cause the child restraint to not perform as intended and increase the potential of serious injury or death. Most commercial air carriers operating under part 121 do not operate aircraft (certificated under part 25) with a lap shoulder (3-point) safety belt restraint system in the passenger seats on their aircraft. It is novel for a child restraint system (CRS) to have labeling that indicates it is certificated for use on aircraft but to also have a manufacturer's limitation on the type of installed restraints in the passenger seat that, in effect, prohibits use on most large commercial aircraft in air carrier operations under part 121. Therefore, the FAA seeks public comment on whether the FAA should grant the petitioner's request for an exemption from 14 CFR 121.311 for CRS that are approved under FMVSS 209, which must always be secured with lap shoulder (3-point) safety belts to secure the child restraints in passenger seats, to permit their use on U.S.-registered aircraft in commercial air carrier operations under part 121.

[FR Doc. 2017-15087 Filed 7-20-17; 8:45 am]

BILLING CODE 4910-13-P